DEPARTMENT OF ENERGY

Federal Energy Regulatory Commission

Combined Notice of Filings #1

Take notice that the Commission received the following electric corporate filings:

Docket Numbers: EC13-37-000.

Applicants: Montana Alberta Tie Ltd.

Description: Application for Approval of Internal Reorganization under Section 203 of the FPA of Montana Alberta Tie Ltd.

Filed Date: 11/13/12.

Accession Number: 20121113-5479.

Comments Due: 5 p.m. e.t. 12/4/12.

Docket Numbers: EC13-38-000.

Applicants: Grand Ridge Energy LLC, Grand Ridge Energy II LLC, Grand Ridge Energy III LLC, Grand Ridge Energy IV LLC.

Description: Application for Authorization Under Section 203 of the Federal Power Act and Request for Waivers and Expedited Action of Grand Ridge Energy LLC, et. al.

Filed Date: 11/13/12.

Accession Number: 20121113-5480.

Comments Due: 5 p.m. e.t. 12/4/12.

Take notice that the Commission received the following exempt wholesale generator filings:

Docket Numbers: EG13-10-000.

Applicants: Grand Ridge Energy IV LLC.

Description: Notice of Self-Certification of Exempt Wholesale Generator Status of Grand Ridge Energy IV LLC.

Filed Date: 11/13/12.

Accession Number: 20121113-5461.

Comments Due: 5 p.m. e.t. 12/4/12.

Take notice that the Commission received the following electric rate filings:

Docket Numbers: ER12-2710-000.

Applicants: FirstEnergy Generation Corporation.

Description: Informational Filing of FirstEnergy Generation Corporation regarding Deactivation Avoidable Cost Rate of Eastlake generating unit number 1.

Filed Date: 7/10/12.

Accession Number: 20120710-5162.

Comments Due: 5 p.m. e.t. 12/5/12.

Docket Numbers: ER12-2710-000.

Applicants: FirstEnergy Generation Corporation.

Description: Informational Filing of FirstEnergy Generation Corporation regarding Deactivation Avoidable Cost Rate of Eastlake generating unit number 2.

Filed Date: 7/10/12.

Accession Number: 20120710-5163.

Comments Due: 5 p.m. e.t. 12/5/12.

Docket Numbers: ER12-2710-000.

Applicants: FirstEnergy Generation Corporation.

Description: Informational Filing of FirstEnergy Generation Corporation regarding Deactivation Avoidable Cost Rate of Eastlake generating unit number 3.

Filed Date: 7/10/12.

Accession Number: 20120710-5164.

Comments Due: 5 p.m. e.t. 12/5/12.

Docket Numbers: ER12-2710-000.

Applicants: FirstEnergy Generation Corporation.

Description: Informational Filing of FirstEnergy Generation Corporation regarding Deactivation Avoidable Cost Rate of Ashtabula generating unit number 5.

Filed Date: 7/10/12.

Accession Number: 20120710-5165.

Comments Due: 5 p.m. e.t. 12/5/12.

Docket Numbers: ER12-2710-000.

Applicants: FirstEnergy Generation Corporation.

Description: Informational Filing of FirstEnergy Generation Corporation regarding Deactivation Avoidable Cost Rate of Lake Shore generating Unit Number 18.

Filed Date: 7/10/12

Accession Number: 20120710-5166.

Comments Due: 5 p.m. e.t. 12/5/12.

Docket Numbers: ER12-2710-000.

Applicants: FirstEnergy Generation Corporation.

Description: Correction to July 10, 2012 Informational Filing of FirstEnergy Generation Corporation regarding Deactivation Avoidable Cost Rate of Lake Shore generating unit number 18.

Filed Date: 10/31/12.

Accession Number: 20121031-5399.

Comments Due: 5 p.m. e.t. 12/5/12.

Docket Numbers: ER12-2710-000.

Applicants: FirstEnergy Generation Corporation.

Description: Correction to July 10, 2012 Informational Filing of FirstEnergy Generation Corporation regarding Deactivation Avoidable Cost Rate of Eastlake generating unit number 2.

Filed Date: 10/31/12.

Accession Number: 20121031-5402.

Comments Due: 5 p.m. e.t. 12/5/12.

Docket Numbers: ER12-2710-000.

Applicants: FirstEnergy Generation Corporation.

Description: Correction to July 10, 2012 Informational Filing of FirstEnergy Generation Corporation regarding Deactivation Avoidable Cost Rate of Eastlake generating unit number 1.

Filed Date: 10/31/12.

Accession Number: 20121031-5403.

Comments Due: 5 p.m. e.t. 12/5/12.

Docket Numbers: ER12-2710-000.

Applicants: FirstEnergy Generation Corporation.

Description: Correction to July 10, 2012 Informational Filing of FirstEnergy Generation Corporation regarding Deactivation Avoidable Cost Rate of Eastlake generating unit number 3.

Filed Date: 10/31/12.

Accession Number: 20121031-5404.

Comments Due: 5 p.m. e.t. 12/5/12.

Docket Numbers: ER12-2710-000.

Applicants: FirstEnergy Generation Corporation.

Description: Correction to July 10, 2012 Informational Filing of FirstEnergy Generation Corporation regarding Deactivation Avoidable Cost Rate of Ashtabula generating unit number 5.

Filed Date: 10/31/12.

Accession Number: 20121031-5405.

Comments Due: 5 p.m. e.t. 12/5/12.

Docket Numbers: ER13-353-000.

Applicants: Alcoa Power Generating Inc.

Description: APGI-SMT Interconnection Agreement to be effective 11/14/2012.

Filed Date: 11/13/12.

Accession Number: 20121113-5228.

Comments Due: 5 p.m. e.t. 12/4/12.

Docket Numbers: ER13-354-000.

Applicants: QC Power Strategies Fund LLC.

Description: QCP Initial Tariff to be effective 11/15/2012.

Filed Date: 11/13/12.

Accession Number: 20121113-5232.

Comments Due: 5 p.m. e.t. 12/4/12.

Docket Numbers: ER13-355-000.

Applicants: Alcoa Power Generating Inc.

Description: APGI-TVA Interconnection Agreement to be effective 11/14/2012.

Filed Date: 11/13/12.

Accession Number: 20121113-5237.

Comments Due: 5 p.m. e.t. 12/4/12.

Docket Numbers: ER13-356-000.

Applicants: ISO New England Inc.

Description: Gas Pipeline Information Sharing to be effective 12/7/2012.

Filed Date: 11/13/12.

Accession Number: 20121113-5290.

Comments Due: 5 p.m. e.t. 12/4/12.

Docket Numbers: ER13-357-000.

Applicants: Cirrus Wind 1, LLC.

Description: MBR Tariff to be effective 12/6/2012.

Filed Date: 11/13/12.

Accession Number: 20121113-5335.

Comments Due: 5 p.m. e.t. 12/4/12.

Docket Numbers: ER13-358-000.

Applicants: Smoky Mountain Transmission LLC.

Description: Baseline New to be effective 12/31/9998.

Filed Date: 11/13/12.

Accession Number: 20121113-5391.

Comments Due: 5 p.m. e.t. 12/4/12.

Docket Numbers: ER13-359-000.

Applicants: Dominion Energy Brayton Point, LLC.

Description: New Baseline Refile to be effective 11/14/2012.

Filed Date: 11/13/12.

Accession Number: 20121113-5421.

Comments Due: 5 p.m. e.t. 12/4/12.

Docket Numbers: ER13-360-000.

Applicants: Grand Ridge Energy LLC.

Description: Filing of Amended Co-Tenancy, and Shared Facilities Agreement to be effective 11/14/2012.

Filed Date: 11/13/12.

Accession Number: 20121113-5435.

Comments Due: 5 p.m. e.t. 12/4/12.

Docket Numbers: ER13-361-000.

Applicants: Grand Ridge Energy II LLC.

Description: Filing of Amended Co-Tenancy, and Shared Facilities Agreement to be effective 11/14/2012.

Filed Date: 11/13/12.

Accession Number: 20121113-5444.

Comments Due: 5 p.m. e.t. 12/4/12.

Docket Numbers: ER13-362-000.

Applicants: Grand Ridge Energy III LLC.

Description: Filing of Amended Co-Tenancy, and Shared Facilities Agreement to be effective 11/14/2012.

Filed Date: 11/13/12.

Accession Number: 20121113-5446.

Comments Due: 5 p.m. e.t. 12/4/12.

Docket Numbers: ER13-363-000.

Applicants: Grand Ridge Energy IV LLC.

Description: Filing of Amended Co-Tenancy, and Shared Facilities Agreement to be effective 11/14/2012.

Filed Date: 11/13/12.

Accession Number: 20121113-5459.

Comments Due: 5 p.m. e.t. 12/4/12.

Docket Numbers: ER13-365-000.

Applicants: Constellation Energy Commodities Group, Inc.

Description: Reassignment Tariff to be effective 11/14/2012.

Filed Date: 11/13/12.

Accession Number: 20121113-5471.

Comments Due: 5 p.m. e.t. 12/4/12.

Docket Numbers: ER13-366-000.

Applicants: Southwest Power Pool, Inc.

Description: Order No. 1000 Compliance Filing—Part 1 of 2—OATT to be effective 12/31/9998.

Filed Date: 11/13/12.

Accession Number: 20121113-5472.

Comments Due: 5 p.m. e.t. 12/27/12.

Docket Numbers: ER13-367-000.

Applicants: Southwest Power Pool, Inc.

Description: Order No. 1000 Compliance Filing—Part 2 of 2—Membership Agreement to be effective 12/31/9998.

Filed Date: 11/13/12.

Accession Number: 20121113-5473.

Comments Due: 5 p.m. e.t. 12/27/12.

Docket Numbers: ER13-368-000.

Applicants: The Procter & Gamble Paper Products Company.

Description: MBRA Tariff to be effective 1/14/2013.

Filed Date: 11/13/12.

Accession Number: 20121113-5474.

Comments Due: 5 p.m. e.t. 12/4/12.

Docket Numbers: ER13-369-000.

Applicants: Smoky Mountain Transmission LLC.

Description: Normal filing to be effective 12/31/9998.

Filed Date: 11/13/12.

Accession Number: 20121113-5475.

Comments Due: 5 p.m. e.t. 12/4/12.

Docket Numbers: ER13-370-000.

Applicants: Kansas City Power & Light Company.

Description: KCP&L Rate Schedule 132 to be effective 11/13/2012.

Filed Date: 11/14/12.

Accession Number: 20121114-5002.

Comments Due: 5 p.m. e.t. 12/5/12.

Docket Numbers: ER13-371-000.

Applicants: Southern California Edison Company.

Description: SGIA and Distribution Service Agreement with Central Antelope Dry Ranch B to be effective 11/15/2012.

Filed Date: 11/14/12.

Accession Number: 20121114-5004.

Comments Due: 5 p.m. e.t. 12/5/12.

Docket Numbers: ER13-372-000.

Applicants: Southern California Edison Company.

Description: SGIA and Distribution Service Agreement with Lancaster Dry Farm Ranch B to be effective 11/15/2012.

Filed Date: 11/14/12.

Accession Number: 20121114-5005.

Comments Due: 5 p.m. e.t. 12/5/12.

Docket Numbers: ER13-373-000.

Applicants: Dynegy Marketing and Trade, LLC.

Description: Dynegy Marketing and Trade, LLC submits Request for Additional Cost Recovery under Section III.A.15, Appendix A to the ISO New England Inc. Tariff.

Filed Date: 11/13/12.

Accession Number: 20121113-5477.

Comments Due: 5 p.m. e.t. 12/4/12.

Docket Numbers: ER13-374-000.

Applicants: Grand Ridge Energy V LLC.

Description: Filing of Amended Co-Tenancy, and Shared Facilities Agreement to be effective 11/14/2012.

Filed Date: 11/13/12.

Accession Number: 20121113-5498.

Comments Due: 5 p.m. e.t. 12/4/12.

Docket Numbers: ER13-375-000.

Applicants: Tucson Electric Power Company.

Description: Tucson Electric Power Company submits tariff filing per 35.13(a)(2)(iii): Southwest Reserve Sharing Group Operating Procedures 4 and 12 to be effective 1/16/2013.

Filed Date: 11/14/12.

Accession Number: 20121114-5075.

Comments Due: 5 p.m. e.t. 12/5/12.

Docket Numbers: ER13-376-000.

Applicants: Arizona Public Service Company.

Description: Cancellation of APS Service Agreement No. 312—Perrin Ranch LGIA to be effective 1/14/2013.

Filed Date: 11/14/12.

Accession Number: 20121114-5096.

Comments Due: 5 p.m. e.t. 12/5/12.

Take notice that the Commission received the following electric securities filings:

Docket Numbers: ES13-9-000.

Applicants: Montana Alberta Tie Ltd, MATL LLP.

Description: Application Under Section 204 of the Federal Power Act of Montana Alberta Tie Ltd, et al.

Filed Date: 11/13/12.

Accession Number: 20121113-5482.

Comments Due: 5 p.m. e.t. 12/4/12.

Take notice that the Commission received the following qualifying facility filings:

Docket Numbers: QF13-84-000.

Applicants: Brigham Young University—Idaho.

Description: Brigham Young University—Idaho submits FERC Form 556 Notice of Certification of Qualifying Facility Status for a Small Power Production or Cogeneration Facility.

Filed Date: 11/13/12.

Accession Number: 20121113-5488.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2012.
Nathaniel J. Davis, Sr.,
Deputy Secretary.

[FR Doc. 2012-28269 Filed 11-20-12; 8:45 am]

BILLING CODE 6717-01-P